DEPARTMENT OF EDUCATION

[Docket No. ED-2013-ICCD-0036]

Agency Information Collection Activities; Submission to the Office of Management and Budget for Review and Approval; Comment Request; Application for Grants Under the Predominantly Black Institutions Program

Correction

In notice document 2013-12988, appearing on page 33075 in the issue of Monday, June 3, 2013, make the following correction:

In the second column, in the eighth and ninth lines, “June 3, 2013” should read “July 3, 2013”.

[FR Doc. C1-2013-12988 Filed 6-6-13; 8:45 am]

BILLING CODE 1505-01-D